FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011574-010.

Title: Pacific Islands Discussion Agreement.

Parties: P & O Nedlloyd Limited, Hamburg-Süd, Polynesia Line Ltd., FESCO Ocean Management Limited, and Australia-New Zealand Direct Line.

Synopsis: The amendment revises the geographic scope to include the United States Atlantic and Gulf Coasts and deletes the trade name of Hamburg-Süd.

Agreement No.: 011786-003.

Title: Zim/Great Western Agreement.

Parties: Zim Israel Navigation Co., Ltd. and Great Western Steamship Company.

Synopsis: The amendment revises slot allocations, extends the term of the agreement until terminated by mutual agreement, and revises the governing law and arbitration provisions.

Agreement No.: 011795-001.

Title: Puerto Rican Cross Space Charter and Sailing Agreement.

Parties: Compania Chilena de Navegacion Interoceanica S.A. and Compania Sud Americana de Vapores S.A.

Synopsis: The amendment revises the geographic scope to include Jamaica.

Agreement No.: 011852-005.

Title: Maritime Security Discussion Agreement.

Parties: American President Lines, Ltd.; APL Co. Pte Ltd.; China Shipping Container Lines, Co., Ltd.; CMA-CGM S.A.; COSCO Container Lines Company, Ltd.; Evergreen Marine Corp.; Hanjin Shipping Company, Ltd.; Hapag Lloyd Container Linie GmbH; Kawasaki Kisen Kaisha Ltd.; A.P. Moller-Maersk A/S, trading under the name of Maersk Sealand; Mitsui O.S.K. Lines, Ltd.; Nippon Yusen Kaisha; Yang Ming Marine Transport Corp.; Safmarine Container Line, NV; Zim Israel Navigation Co., Ltd.; Alabama State Port Authority; APM Terminals North America, Inc.; Ceres Terminals, Inc.; Cooper/T. Smith Stevedoring Co., Inc.; Eagle Marine Services Ltd.; Global Terminal & Container Services, Inc.; Howland Hook Container Terminal, Inc.; Husky Terminal & Stevedoring, Inc.; International Shipping Agency; International Transportation Service, Inc.; Lambert's Point Docks Inc.; Long Beach Container Terminal, Inc.; Maersk Pacific Ltd.; Maher Terminals, Inc.; Marine Terminals Corp.; Maryland Port Administration; Massachusetts Port Authority (MASSPORT); Metropolitan Stevedore Co.; P&O Ports North American, Inc.; Port of Tacoma; South Carolina State Ports Authority; Stevedoring Services of America, Inc.; Trans Bay Container Terminal, Inc. TraPac Terminals; Universal Maritime Service Corp.; and Virginia International Terminals.

Synopsis: The amendment adds CP Ships (UK) Limited; ANZDL; Canada Maritime; Contship Container Lines; Italia di Navigazione, LLC; Lykes Lines Limited, LLC; and TMM Lines Limited, LLC, all acting together as a single party under the agreement.

Agreement No.: 011876.

Title: Seafreight/Crowley Space Charter Agreement.

Parties: Crowley Liner Service, Inc. and Seafreight Line, Ltd.

Synopsis: The agreement authorizes Crowley to charter space to Seafreight in the trade between Florida ports and Bridgetown, Barbados. The parties request expedited review.

Agreement No.: 011877.

Title: Norasia/CMA-CGM Europe-USEC/USWC Slot Charter Agreement.

Parties: CMA CGM, S.A. and Norasia Container Lines Limited.

Synopsis: The agreement is a vessel-sharing agreement between the parties in the trade between U.S. East and West Coast ports and ports in Northern Europe. It also provides for the movement of empty containers between U.S. East Coast ports and ports in Asia. The parties request expedited review.

Agreement No.: 201156.

Title: Port of Palm Beach/Royal Star Entertainment Operating Agreement.

Parties: Port of Palm Beach District and Royal Star Entertainment LLC.

Synopsis: The agreement provides for the terms and conditions under which Royal Star will use the cruise terminal facility at the Port of Palm Beach.

Dated: April 9, 2004.
By Order of the Federal Maritime Commission.
Karen V. Gregory,
Assistant Secretary.

[FR Doc. 04-8474 Filed 4-13-04; 8:45 am]

BILLING CODE 6730-01-P